DEPARTMENT OF ENERGY

Federal Energy Regulatory Commission

[Project No. 14276-016]

FFP Project 92, LLC, Lock 11 Hydro Partners, LLC; Notice of Application of Transfer of License and Soliciting Comments, Motions To Intervene, and Protests

On February 29, 2024, FFP Project 92, LLC (transferor) filed an application for a transfer of license of the 2,640-kilowatt Kentucky River Lock & Dam No. 11 Hydroelectric Project No. 14276. The project is located on the Kentucky River in Estill and Madison counties, Kentucky and does not occupy Federal land.

Pursuant to 16 U.S.C. 801, the applicants seek Commission approval to transfer the license for the project from FFP Project 92, LLC to Lock 11 Hydro Partners, LLC (transferee). The transferee will be required by the Commission to comply with all the requirements of the license as though it were the original licensee. The applicants also propose to change the name of the project to College Hill Hydroelectric Project.

Applicants Contact: David Brown Kinloch, Address: 414 S Wenzel Street, Louisville, KY 40204, Phone: (502) 589-0975.

FERC Contact: Steven Sachs, Phone: (202) 502-8666, Email: Steven.Sachs@ferc.gov.

Deadline for Filing Comments, Motions To Intervene, and Protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY).

In lieu of electronic filing, you may submit a paper copy. Submissions sent via U.S. Postal Service must be addressed to, Debbie-Anne A. Reese, Acting Secretary, Federal Energy Regulatory Commission, 888 First Street NE, Room 1A, Washington, DC 20426. Submissions sent via any other carrier must be addressed to, Debbie-Anne A. Reese, Acting Secretary, Federal Energy Regulatory Commission, 12225 Wilkins Avenue, Rockville, Maryland 20852. The first page of any filing should include docket number P-14276-016. Comments emailed to Commission staff are not considered part of the Commission record.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 17, 2024.
Debbie-Anne A. Reese,
Acting Secretary.

[FR Doc. 2024-11372 Filed 5-22-24; 8:45 am]

BILLING CODE 6717-01-P